FEDERAL MARITIME COMMISSION

Ocean Transportation Intermediary License Correction

In the Federal Register notice published January 18, 2001 (66 FR 4827) the reference to N. Abbe International, Inc. is corrected to read: “H. Abbe International, Inc.”.

Dated: February 2, 2001.
Bryant L. VanBrakle,
Secretary.

[FR Doc. 01-3218 Filed 2-7-01; 8:45 am]

BILLING CODE 6730-01-P